DEPARTMENT OF AGRICULTURE

Forest Service

Columbia County Resource Advisory Committee

AGENCY: Forest Service, USDA.

ACTION: Notice of meeting.

SUMMARY: Pursuant to the authorities in the Federal Advisory Committees Act (Public Law 92-463), the Columbia County Resource Advisory Committee (RAC) will meet on June 17, 2002 in Dayton, Washington. The purpose of the meeting is to discuss the selection of Title II projects for Fiscal Year 2003 under Public Law 106-393, H.R. 2389, the Secure Rural Schools and Community Self-Determination Act of 2000, also called the “Payments to States” Act.

DATES: The meeting will be held on June 17, 2002 from 7 p.m. to 9 p.m.

ADDRESSES: The meeting will be held at the Dayton Post Office, 202 South Second Street, Dayton, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This meeting will focus on discussing Title II proposed projects. The meeting is open to the public. Public input opportunity will be provided and individuals will have the opportunity to address the committee at that time.

Dated: June 3, 2002.
Jeff D. Blackwood,
Forest Supervisor.

[FR Doc. 02-14542 Filed 6-10-02; 8:45 am]

BILLING CODE 3410-BH-M